DEPARTMENT OF COMMERCE

Foreign-Trade Zones Board

[Docket 41-2005]

Foreign-Trade Zone 49 -- Newark, New Jersey, Area, Application for Expansion

An application has been submitted to the Foreign-Trade Zones (FTZ) Board (the Board), by the Port Authority of New York and New Jersey, grantee of Foreign-Trade Zone 49, requesting authority to expand its zone to include a site in Kearny, New Jersey, within the Newark/New York Customs port of entry. The application was submitted pursuant to the provisions of the Foreign-Trade Zones Act, as amended (19 U.S.C. 81a-81u), and the regulations of the Board (15 CFR Part 400). It was formally filed on August 9, 2005.

FTZ 49 was approved on April 6, 1979 (Board Order 146, 44 FR 22502, 4/16/79) and expanded on May 26, 1983 (Board Order 211, 48 FR 24958, 6/3/83); on October 23, 1987 (Board Order 365, 52 FR 41599, 10/29/87); on April 19, 1990 (Board Order 470, 55 FR 17478, 4/25/90); and, on December 15, 1999 (Board Order 1067, 64 FR 72642, 12/28/99).

The general-purpose zone project currently consists of five sites: Site 1 (2,077 acres) -- Port Newark/Elizabeth Port Authority Marine Terminal; Site 2 (64 acres) -- Global Terminal and Container Services and adjacent Jersey Distribution Services facility in Jersey City and Bayonne; Site 3 (124 acres) -- Port Authority Industrial Park, adjacent to the Port Newark/Elizabeth Port Authority Marine terminal; Site 4 (198 acres) -- Port Authority Auto Marine Terminal and adjacent Greenville Industrial Park in Bayonne and Jersey City, and Site 5 (40 acres) -- the jet fuel storage and distribution system at Newark International Airport in Newark and Elizabeth.

The applicant is now requesting authority to expand the general-purpose zone to include a site (407 acres, Proposed Site 6) within a 441-acre industrial area located at 100 Central Avenue in Kearny (Hudson County). The site is partially developed and is comprised of buildings totaling 5,500,000 square feet, and is used primarily for manufacturing, warehousing and distribution activities. The majority of the site is owned by River Terminal Properties, Inc. No specific manufacturing requests are being made at this time. Such requests would be made to the Board on a case-by-case basis.

In accordance with the Board's regulations, a member of the FTZ staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Services: Foreign-Trade Zones Board, U.S. Department of Commerce, FCB-Suite 4100W, 1401 Constitution Avenue, NW, Washington, DC 20230.

The closing period for the receipt is October 17, 2005. Rebuttal comments in response to material submitted during the foregoing period may be submitted during the subsequent 15-day period (to November 1, 2005).

A copy of the application and accompanying exhibits will be available during this time for public inspection at the address Number 1 listed above, and at the U.S. Department of Commerce Export Assistance Center, 744 Broad Street, Suite 1505, Newark, NJ 07102.

Dennis Puccinelli,
Executive Secretary.

[FR Doc. 05-16398 Filed 8-17-05; 8:45 am]

BILLING CODE 3510-DS-S